DEPARTMENT OF ENERGY

Federal Energy Regulatory Commission

18 CFR Part 35

[Docket Nos. RM01-8-000, RM10-12-000, RM12-3-000]

Order Updating Electric Quarterly Report Data Dictionary

AGENCY: Federal Energy Regulatory Commission, DOE.

ACTION: Order Updating Electric Quarterly Report (EQR) Data Dictionary.

SUMMARY: In this order, the Federal Energy Regulatory Commission (Commission) updates the EQR Data Dictionary to indicate how market participants should enter information in certain fields of the new EQR system so that the new system's validation process will more readily accept filings. These updates to the EQR Data Dictionary enable the implementation of the Commission's revised EQR filing process. This order also updates the EQR Data Dictionary's list of Balancing Authority names and abbreviations to reflect changes in the official source of such data.

DATES: This order is effective March 14, 2014. The definitions adopted in this order shall be used beginning with the filing of the third quarter (Q3), 2013 EQR.

FOR FURTHER INFORMATION CONTACT:

Astrid Kirstin Rapp (Technical Information), Office of Enforcement, Federal Energy Regulatory Commission, 888 First Street NE., Washington, DC 20426, (202) 502-6246.

Adam Batenhorst (Legal Information), Office of the General Counsel, Federal Energy Regulatory Commission, 888 First Street NE., Washington, DC 20426, (202) 502-6150.

SUPPLEMENTARY INFORMATION:

Before Commissioners: Cheryl A. LaFleur, Acting Chairman; Philip D. Moeller, John R. Norris, and Tony Clark.

| Docket No.
Filing Requirements for El. Utility S.A. | RM01-8-000
Electricity Market Transparency Provisions of Section 220 of the Federal Power Act | RM10-12-000
Revisions to Electric Quarterly Report Filing Process | RM12-3-000

(Issued March 10, 2014.)

1. In this order we are updating the Electric Quarterly Report (EQR) Data Dictionary in order to conform to the changes to the EQR filing process mandated by Order No. 770.¹ Specifically, we are updating the EQR Data Dictionary to indicate how market participants should enter information into certain fields in the new EQR system so that the new system's validation process will more readily accept the filings. This order also updates Appendix B of the EQR Data Dictionary, which contains Balancing Authority names and abbreviations, to reflect changes in the official source of such data.

¹ Revisions to Electric Quarterly Report Filing Process, Order No. 770, 77 FR 71288 (Nov. 30, 2012), FERC Stats. & Regs. ¶ 31,338 (2012) (Order No. 770).

I. Background

2. On April 25, 2002, the Commission issued Order No. 2001, a final rule establishing revised public utility filing requirements.² This rule revised the Commission's filing requirements to require companies subject to the Commission's regulations under section 205 of the Federal Power Act (FPA) ³ to file EQRs summarizing transaction information for short-term and long-term cost-based sales and market-based rate sales and the contractual terms and conditions in their agreements for all jurisdictional services. The requirement to file EQRs replaced the requirement to file quarterly transaction reports summarizing a utility's market-based rate transactions and sales agreements that conformed to the utility's tariff.

² Revised Public Utility Filing Requirements, Order No. 2001, 67 FR 31044 (May 8, 2002), FERC Stats. & Regs. ¶ 31,127, reh'g denied, Order No. 2001-A, 100 FERC ¶ 61,074, reh'g denied, Order No. 2001-B, 100 FERC ¶ 61,342, order directing filing, Order No. 2001-C, 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 72 FR 56735 (Oct. 4, 2007), 120 FERC ¶ 61,270, order on reh'g and clarification, Order No. 2001-H, 73 FR 1876 (Jan. 10, 2008), 121 FERC ¶ 61,289 (2007), order revising filing requirements, Order No. 2001-I, 73 FR 65526 (Nov. 4, 2008), FERC Stats. & Regs. ¶ 31,282 (2008).

³ 16 U.S.C. 842d (2012).

3. In Order No. 2001, the Commission also adopted a new section in its regulations, 18 CFR 35.10b, which required that the EQRs are to be prepared in conformance with the Commission's software and guidance posted and available from the Commission's Web site. Since the issuance of Order No. 2001, as need has arisen, the Commission has issued orders to resolve questions raised by EQR users and has directed Staff to issue additional guidance on how to report certain transactions.⁴

⁴ See, e.g., Revised Public Utility Requirements for Electric Quarterly Reports (Notice Providing Guidance on the Filing of Information on Transmission Capacity Reassignments in Electric Quarterly Reports), 124 FERC ¶ 61,244 (2008) (providing guidance on complying with the Commission's Order No. 890-B reporting requirements); Order No. 2001-E, 105 FERC ¶ 61,352 (2003) (standardizing the terminology for control areas); Revised Public Utility Filing Requirements, 67 FR 65973 (Oct. 29, 2002), FERC Stats. & Regs. ¶ 35,045 (2002) (providing general guidance for using the EQR software).

4. On September 24, 2007, the Commission issued Order No. 2001-G, adopting an EQR Data Dictionary that collected in one document the definitions of certain terms and values used in filing EQR data and provided formal definitions for fields that were previously undefined. Since its creation, the Commission has revised the EQR Data Dictionary on several occasions to clarify terms and definitions as needed.⁵

⁵ See, e.g., Order No. 2001-I, FERC Stats. & Regs. ¶ 31,282 (revising the EQR Data Dictionary to define and rename the Commencement Date of Contract Terms and clarifying information to be reported concerning ancillary services); Order No. 2001-H, 121 FERC ¶ 61,289 (clarifying information to be included in several EQR data fields).

5. On September 21, 2012, the Commission issued Order No. 768,⁶ which, among other things, revised the existing EQR filing requirements to require market participants that are excluded from the Commission's jurisdiction under section 205 of the FPA ⁷ and have more than a de minimis market presence to file EQRs with the Commission. Order Nos. 768 and 768-A also updated the EQR Data Dictionary to reflect changes required by the inclusion of non-public utilities in the EQR process.

⁶ Electric Market Transparency Provisions of Section 220 of the Federal Power Act, Order No. 768, 77 FR 61896 (Oct. 11, 2012), FERC Stats. & Regs. ¶ 31,336 (2012), order on reh'g, Order No. 768-A, 143 FERC ¶ 61,054 (2013).

⁷ 16 U.S.C. 842d (2012).

6. On November 15, 2012, the Commission issued Order No. 770, which revised the Commission's regulations to change the process for filing EQRs. In Order No. 770, the Commission announced that, due to technology changes that will render the current filing process outmoded and unsustainable, the Commission will discontinue the use of Commission-distributed software to file an EQR. The Commission reported that, instead, beginning with Q3 2013 EQRs, it will adopt a web-based approach to filing EQRs that will allow a public or non-public utility to file an EQR directly through the Commission's Web site, either through a web interface or by submitting an Extensible Mark-Up Language (XML)-formatted file (XML filing option).⁸ In Order No. 770, the Commission also updated the EQR Data Dictionary.⁹

⁸ Although it originally was anticipated that the new EQR filing system would be available in October 2013 for use in filing Q3 2013 EQRs, the Commission issued orders extending the deadline to file Q3 2013 and Q4 2013 EQRs to dates to be determined. Filing Requirements for El. Utility, S.A., 145 FERC ¶ 61,031 (2013) (extending the deadline for Q3 2013 EQRs); Filing Requirements for El. Utility, S.A., 145 FERC ¶ 61,282 (2013) (extending the deadline for Q4 2013 EQRs).

⁹ The most current version of the EQR Data Dictionary (version 2.2) was issued on April 18, 2013 as an appendix to Order No. 768-A.

II. Discussion

7. As noted in Order No. 770, the Commission is developing a validation process in the new system that contains validation checks that will run against the data inputted by the EQR Seller or Agent.¹⁰ The validation process includes checks for required fields, character formatting, and character limits. As a result, the implementation of the new EQR system directed by Order No. 770 requires several additional updates to the EQR Data Dictionary, as detailed below. These updates provide necessary guidance regarding the new EQR system and will help ensure that the EQR validation process accepts market participants' EQR filings. The new validation process will reject submissions that are not provided in the format expected for each particular field. Updating the EQR Data Dictionary to reflect these expectations will reduce the number of rejected filings, minimizing EQR filing burdens.¹¹ The updates to the EQR Data Dictionary are described below.

¹⁰ Order No. 770, FERC Stats. & Regs. ¶ 31,338 at 31,764-65.

¹¹ Pursuant to the Paperwork Reduction Act, the burden estimates (for the EQR, also known as the FERC-920) related to the change to the new EQR system were accounted for previously in Order No. 770 for existing filers. The initial implementation burden for new non-public filers was accounted for in Order No. 768. Because the updates to the EQR Data Dictionary adopted in this order impose no new or revised burdens or regulatory requirements, under 5 U.S.C. 553(b), notice and comment procedures are unnecessary.

8. The Commission is updating the “Required” column for certain fields ¹² and making corresponding updates to the “Value” column for Index Price Publisher(s) To Which Sales Transactions Have Been Reported (Field Number 73). The “Required” column now indicates what information must be entered in these fields if that information is not specified in the contract (e.g., leave the field blank or enter “None,” “N/A”, etc.) or required in the index publishing data. Similarly, the Commission is updating the “Value” column, for example, by specifying how contact information must be entered and the number of available integers or characters in certain fields to be consistent with Order No. 770 and the new validation process.¹³ The Commission is also updating the “Definition” column to include guidance on required formatting and data values.¹⁴

¹² See, e.g., Contract Termination Date (Field Number 23); Actual Termination Date (Field Number 24); Extension Provision Description (Field Number 25); Quantity (Field Number 32); Units (Field Number 33); Rate (Field Number 34); Rate Minimum (Field Number 35); Rate Maximum (Field Number 36); Point of Receipt Balancing Authority (PORBA) (Field Number 39); Point of Receipt Specific Location (PORSL) (Field Number 40); Point of Delivery Balancing Authority (PODBA) (Field Number 41); Point of Delivery Specific Location (PODSL) (Field Number 42); Begin Date (Field Number 43); End Date (Field Number 44); Total Transmission Charge (Field Number 69); Filer Unique Identifier (Field Number 71); Seller Company Name (Field Number 72); Index Price Publisher(s) To Which Sales Transactions Have Been Reported (Field Number 73); and Transactions Reported (Field Number 74).

¹³ See, e.g., Company Identifier (Field Number 3); Contact Name (Field Number 4); Contact Country Name (Field Number 10); Contact E-Mail (Field Number 12); Transactions Reported to Index Price Publisher(s) (Field Number 13); Contract Affiliate (Field Number 18); Rate Description (Field Number 37); Transaction Begin Date (Field Number 51); Transaction End Date (Field Number 52); and Trade Date (Field Number 53).

¹⁴ See, e.g., Filer Unique Identifier (Field Number 1); Rate Description (Field Number 37); and Transaction Unique ID (Field Number 45).

9. Moreover, the Commission is removing specific references to comma-delimited text (CSV) files and related requirements in certain fields given that the new system allows the additional XML filing option.¹⁵ The Commission also is updating the Company Identifier (Field Number 3), Contact Name (Field Number 4), Transactions Reported to Index Price Publisher(s) (Field Number 13), Contract Service Agreement ID (Field Number 20), and Contract Service Agreement ID (Field Number 49) to include references to “Agent” and “Sellers,” consistent with the terms adopted in Order No. 770.¹⁶ The Commission is also revising the “Definition” for Begin Date (Field Number 43) and End Date (Field Number 44) to reflect the fact that time must also be noted in those fields, as indicated in the associated “Value” column. Further, the Commission is revising the “Definition” for Time Zone (Field Number 56) to clarify that it refers to transaction data (not contract data) because this field is associated with transactions.

¹⁵ See Filer Unique Identifier (Field Number 1); Filing Quarter (Field Number 14); Contact Unique ID (Field Number 15); and Transaction Unique ID (Field Number 45).

¹⁶ See Order No. 770, FERC Stats. & Regs. ¶ 31,338 at 31,760.

10. In addition, the Commission is updating the list of Index Price Publishers in Appendix G to delete “Dow Jones” and updating the list of Exchange/Broker Services in Appendix H to add “Nodal Exchange.” Moreover, the Commission is updating the list of Balancing Authority names and abbreviations to reflect changes in the official source of such data, the Open Access Technology, Inc. (OATI) webRegistry, as indicated by Order No. 768-A.¹⁷ Finally, the Commission is making the following clerical edits: (1) To state in the “Definition” of Filer Unique Identifier (Field Number 1) and Transaction Unique ID (Field Number 45) that one record for each transaction record “must be included” because this information is required; (2) to clarify in the “Definition” field of Filing Quarter (Field Number 14) that the reference number is used by the EQR System; and (3) to add a period to the “Value” of Point of Receipt Specific Location (PORSL) (Field Number 40). If information is not entered in the manner specified above, the filing may not be accepted by the new EQR validation process. As discussed above, these updates to the EQR Data Dictionary will reduce burden on EQR filers by clarifying system expectations to ensure that data makes it through the validation process.

¹⁷ See Order No. 768-A, 143 FERC ¶ 61,054 at P 55.

III. Implementation Dates

11. This order will become effective March 14, 2014. The updated EQR Data Dictionary adopted in this order shall be used when the web-based approach is available, beginning with the filing of the Q3 2013 EQR.

IV. Document Availability

12. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street NE., Room 2A, Washington, DC 20426.

13. From the Commission's Home Page on the Internet, this information is available in the eLibrary. The full text of this document is available in the eLibrary both in PDF and Microsoft Word format for viewing, printing, and/or downloading. To access this document in eLibrary, type RM01-8, RM10-12, or RM12-3 in the docket number field. User assistance is available for eLibrary and the Commission's Web site during the Commission's normal business hours. For assistance contact the Commission's Online Support services at FERCOnlineSupport@ferc.gov or toll-free at (866) 208-3676, or for TTY, contact (202) 502-8659.

The Commission orders:

(A) The Commission hereby adopts the changes in the EQR Data Dictionary shown in the Attachment, as discussed in the body of this order.

(B) The definitions adopted in this order shall be applied to EQR filings beginning with the Q3 2013 EQR.

By the Commission.
Nathaniel J. Davis, Sr.,
Deputy Secretary.

Note: Attachment will not be published in the Code of Federal Regulations.

Attachment

Electric Quarterly Report Data Dictionary Version 3.0 (Issued February 28, 2014)

BILLING CODE 6717-01-P

[FR Doc. 2014-05583 Filed 3-13-14; 8:45 am]

BILLING CODE 6717-01-C